DEPARTMENT OF EDUCATION

Applications for New Awards; Out-of-School Time Career Pathway Program

AGENCY: Office of Elementary and Secondary Education, Department of Education.

ACTION: Notice.

SUMMARY: The Department of Education is issuing a notice inviting applications from State educational agencies (SEAs) as the lead applicant and fiscal agent of a partnership for an Out-of-School Time Career Pathway program under the national activities authority in the Nita M. Lowey 21st Century Community Learning Centers (21st CCLC) program, Catalog of Federal Domestic Assistance (CFDA) number 84.287D.

DATES:

Applications Available: June 22, 2020.

Deadline for Notice of Intent to Apply: July 22, 2020.

Deadline for Transmittal of Applications: September 21, 2020.

Deadline for Intergovernmental Review: November 19, 2020.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Erin Shackel, U.S. Department of Education, 400 Maryland Avenue SW, Room 3W111, LBJ, Washington, DC 20202. Telephone: (202) 453-6423. Email: 21stCCLCcompetition@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Consistent with the purposes of the 21st CCLC program, the Out-of-School Time Career Pathway program will make grants to SEAs that, in partnership with eligible entities (as defined in section 4201(b)(3) of the Elementary and Secondary Education Act of 1965, as amended by the Every Student Succeeds Act (ESEA)) in the State, will provide students expanded options to participate in a career pathway (as defined in this notice) program, outside regular school hours or as part of an expanded learning program,¹ that leads to a recognized postsecondary credential, such as an industry-recognized certification or a certification of completion of an apprenticeship in an in-demand industry sector or occupation. Such program should be aligned with an existing program of study (as defined in this notice) for students so that in-school and out-of-school time activities complement each other and maximize student preparedness for postsecondary education or a career. An SEA must propose to use grant funds to support an existing partnership or a partnership that has been formed during the application period and will continue to exist if awarded this grant funding. The partnership must consist of the SEA as the lead applicant and fiscal agent, a currently funded 21st CCLC subgrantee (i.e., funded as of the application closing date for the competition outlined in this notice), and an employer in an in-demand industry sector or occupation. Although not required, the SEA may want the partnership to include an institution of higher education (IHE) when developing a student progression along a career pathway continuum, in addition to an employer in an in-demand industry sector or occupation and a 21st CCLC program subgrantee. The goal of this partnership must be to serve students by expanding existing, or building new, career pathway programs. In addition, the partnership must disseminate information about its grant activities to a national audience that includes, but is not limited to, 21st CCLC program coordinators.

¹ An Out-of-School Time Career Pathway program may operate during the regular school day as part of an expanded learning program if the State determines that the statutory requirements in ESEA section 4204(a)(2) for 21st CCLC expanded learning program activities are met, including the requirement that such activities supplement but do not supplant regular school day requirements.

Background: In June 2017, President Trump issued Executive Order 13801, “Expanding Apprenticeships in America,” calling for both a new emphasis on Federal support for apprenticeships and broader efforts to improve workforce preparation that will help students obtain the skills necessary to secure high-paying jobs in today's workforce. The President's National Council for the American Worker was also established to raise awareness of the skills gap in science, technology, engineering, and mathematics (STEM), including computer science; help expand apprenticeships; and encourage investment in worker education. The 21st CCLC program supports efforts to establish or expand opportunities for academic enrichment and other activities, including career and technical education programs and internship or apprenticeship programs linked to in-demand industry sectors or occupations for high school students that are designed to reinforce and complement the regular academic program of participating students.

Subgrantees under the 21st CCLC program provide services to students primarily during non-school hours and are ideally positioned to support expanded access to career pathway opportunities for high school students and, if appropriate, students in middle school. The Out-of-School Time Career Pathway program will fund demonstration partnership grants to SEAs to expand options for students to participate in a career pathway program outside regular school hours or as part of an expanded learning program that leads to recognized postsecondary credential, such as an industry-recognized certification or a certificate of completion of an apprenticeship, in an in-demand industry sector or occupation.

Given the impact that the coronavirus disease 2019 (COVID-19) has had, and continues to have, on the Nation, workforce preparation is increasingly important. Students will benefit from this program by building skills and earning credentials that will support their transition into the workforce. Employers will have the opportunity to work with apprentices or interns. Partnerships like these will help rebuild the economy as the Nation recovers from COVID-19.

This competition includes a competitive preference priority aligned with the aims of the Federal Government's five-year strategic plan for STEM education entitled, Charting A Course for Success: America's Strategy for STEM Education (plan),² published in December 2018. The plan is responsive to the requirements of section 101 of the America COMPETES Reauthorization Act of 2010 (42 U.S.C. 6621) and strengthens the Federal commitment to equity and diversity, evidence-based practices, and engagement with the national STEM community through a nationwide collaboration with learners, families, educators, community leaders, and employers. Beyond guiding Federal agency actions over the next five years, the plan is intended to serve as a “North Star” for the STEM community as it charts a course for collective success. The Federal Government encourages STEM education stakeholders from across the Nation to support the goals of this plan through their own actions. The STEM strategic plan is based on a vision for a future where all Americans have lifelong access to high-quality STEM education and the United States is the global leader in STEM literacy, innovation, and employment. To achieve this vision, the plan provides for the following three goals:

² The White House, National Science and Technology Council, “Charting A Course For Success: America's Strategy For STEM Education,” www.whitehouse.gov/wp-content/uploads/2018/12/STEM-Education-Strategic-Plan-2018.pdf (December 2018).

• Build strong foundations for STEM literacy.

• Increase diversity, equity, and inclusion in STEM.

• Prepare the STEM workforce for the future.

This competition also includes a competitive preference priority for serving students in rural local educational agencies, since these areas may be underserved in terms of access to out-of-school time career pathways programs that lead to a recognized postsecondary credential, such as an industry-recognized certification or a certification of completion of an apprenticeship in an in-demand industry sector or occupation.

Priorities: This notice contains one absolute priority and two competitive preference priorities. We are establishing the absolute priority for the FY 2020 grant competition and any subsequent year in which we make awards from the list of unfunded applications from this competition, in accordance with section 437(d)(1) of the General Education Provisions Act (GEPA) (20 U.S.C. 1232(d)(1)). In accordance with 34 CFR 75.105(b)(2)(ii), competitive preference priority 1 is from the Department's notice of Final Supplemental Priorities and Definitions for Discretionary Grant Programs (Supplemental Priorities) published in the Federal Register on March 2, 2018 (83 FR 9096), and competitive preference priority 2 is from the Department's Administrative Priorities for Discretionary Grant Programs published in the Federal Register on March 9, 2020 (85 FR 13640).

Absolute Priority: This priority is an absolute priority. Under 34 CFR 75.105(c)(3) we consider only applications that meet this priority.

This priority is:

Out-of-School Time Career Pathway Program

To receive a grant under this competition, an SEA must—

a. Provide evidence (e.g., a memorandum of understanding (MOU) or other written agreement) of a partnership—with the SEA serving as the lead applicant and fiscal agent—that includes at least one employer in an in-demand industry sector or occupation, and one existing 21st CCLC subgrantee;

b. Provide evidence that the partnership will build or expand options for students to participate in a career pathway program outside regular school hours or as part of an expanded learning program that leads to a recognized postsecondary credential, such as an industry-recognized certification or a certificate of completion of an apprenticeship, in an in-demand industry sector or occupation; and

c. Assure that it will give priority (e.g., award bonus points) to eligible entities that propose to build or expand career pathway programs, including programs that lead to recognized postsecondary credentials, in each of its competitions under which it awards new subgrants of 21st CCLC funds during the project period of the grant awarded under this competition.

Competitive Preference Priorities: For FY 2020 and any subsequent year in which we make awards from the list of unfunded applications from this competition, these priorities are competitive preference priorities. Under 34 CFR 75.105(c)(2)(i) we award up to an additional five points for Competitive Preference Priority 1 to an application, depending on how well the application meets the competitive preference priority, and an additional ten points for applicants that meet Competitive Preference Priority 2. An applicant must clearly indicate in the abstract section of its application which competitive preference priority or priorities it addresses, including any relevant evidence (e.g., the relevant National Center for Education Statistics (NCES) school district identification number and corresponding locale code for Competitive Preference Priority 2).

These priorities are:

Competitive Preference Priority 1: Promoting Science, Technology, Engineering, or Math (STEM) Education, With a Particular Focus on Computer Science (Up to 5 points)

Projects designed to improve student achievement or other educational outcomes in one or more of the following areas: Science, technology, engineering, math, or computer science (as defined in this notice). These projects must address supporting programs that lead to recognized postsecondary credentials (as defined in section 3(52) of the Workforce Innovation and Opportunity Act (WIOA)) ³ that align with the needs of industries in the State or regional economy involved for careers in STEM fields, including computer science.

³ The term “recognized postsecondary credential” is defined in section 3(52) of WIOA as a credential consisting of an industry-recognized certificate or certification, a certificate of completion of an apprenticeship, a license recognized by the State involved or Federal Government, or an associate or baccalaureate degree. (29 U.S.C. 3102(52)).

Competitive Preference Priority 2: Rural Applicants (0 or 10 points)

Under this priority, an applicant must demonstrate that it proposes to serve students in a community that is served by one or more LEAs with a locale code of 32, 33, 41, 42, or 43. Note: Applicants are encouraged to retrieve locale codes from the NCES School District search tool (https://nces.ed.gov/ccd/districtsearch/), where LEAs can be looked up individually to retrieve locale codes.

Requirements: We are establishing these requirements for the FY 2020 grant competition and any subsequent year in which we make awards from the list of unfunded applications from this competition, in accordance with section 437(d)(1) of GEPA (20 U.S.C. 1232(d)(1)).

Application Requirements: Each application for funds must include the following:

(1) A description of how the partnership will use grant funds to expand options for students to participate in a career pathway (as defined in this notice) program outside regular school hours or as part of an expanded learning program that leads to an to a recognized postsecondary credential, such as an industry-recognized certification or a certificate of completion of an apprenticeship, in an in-demand industry sector or occupation.

(2) A written partnership agreement (e.g., an MOU or other written agreement) describing how the SEA, as the lead applicant and fiscal agent, will partner with at least one existing 21st CCLC subgrantee and at least one employer in an in-demand industry sector or occupation as determined by the State.

(3) If an applicant is seeking points under Competitive Preference Priority 2, the applicant must specify which rural LEA(s) the project will serve by including the National Center for Education Statistics (NCES) LEA identification number in the project abstract.

(4) A description of how the partnership assessed the need for the particular career pathway (as defined in this notice) program(s) for which it is requesting funding.

(5) A description of how the partnership will disseminate information about its grant activities to a national audience, including, but not limited to, 21st CCLC program coordinators.

(6) A description of the ways the partnership will inform potential participating students and their parents about the career pathway (as defined in this notice) programs and components of such programs, such as credentialing, apprenticeships, and internships, offered through this project.

(7) An assurance that the SEA and each of its partners will cooperate with any evaluation conducted or facilitated by the Department or its designees, which may require minimal time and effort at the grantee's expense after the end of the awarded grant's project period.

(8) An assurance that the funds will be used to supplement, and not supplant, other Federal, State, and local public funds expended to provide programs and activities authorized under the 21st CCLC program.

(9) An assurance that the project will target students who primarily attend schools eligible for schoolwide programs under section 1114 of the ESEA, and the families of such students, to the extent feasible and appropriate.

Program Requirements: Grantees under this program must—

(1) Explain their career pathway (as defined in this notice) program(s) and share results of participating students (e.g., the extent to which participating students earned or are on the path to earning recognized postsecondary credentials) at the Department's annual meeting of 21st CCLC State coordinators;

(2) Disseminate information about its career pathway(s) (as defined in this notice) program(s) and results of the participating students (e.g., the extent that participating students earned or are on the path to earning industry-recognized credentials or, as appropriate, completed internships or apprenticeships) to a national audience (e.g., at the 21st CCLC summer symposium, at another national conference, or via a webinar).

Definitions: For the FY 2020 grant competition and any subsequent year in which we make awards from the list of unfunded applications from this competition, we are establishing definitions for the terms “career pathway” and “rural local educational agency (LEA)” in accordance with section 437(d)(1) of GEPA (20 U.S.C. 1232(d)(1)). The definition of “career pathway” is based on the definition of the term in section 3 of WIOA (29 U.S.C. 3102(7)). The definition of “computer science” is from the Supplemental Priorities. The definition of “program of study” is from section 3 of the Carl D. Perkins Career and Technical Education Act of 2006, as amended (20 U.S.C. 2302). The definition of “State” is from ESEA section 8101(48), and the definition of “State educational agency” is from section ESEA section 8101(49).

Career pathway means a combination of rigorous and high-quality education, training, and other services that—

(a) Aligns with the skill needs of industries in the economy of the State or regional economy involved;

(b) Prepares an individual to be successful in any of a full range of secondary or postsecondary education options, including apprenticeships registered under the Act of August 16, 1937;

(c) Includes counseling to support an individual in achieving the individual's education and career goals;

(d) Includes, as appropriate, education offered concurrently with and in the same context as workforce preparation activities and training for a specific occupation or occupational cluster;

(e) Organizes education, training, and other services to meet the particular needs of an individual in a manner that accelerates the educational and career advancement of the individual to the extent practicable;

(f) Helps an individual enter or advance within a specific occupation or occupational cluster;

(g) May lead, as appropriate, to at least one industry-recognized credential.

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects.

Program of study means a coordinated, non-duplicative sequence of academic and technical content at the secondary and postsecondary level that—

(a) Incorporates challenging State academic standards, including those adopted by a State under section 1111(b)(1) of the ESEA;

(b) Addresses both academic and technical knowledge and skills, including employability skills;

(c) Is aligned with the needs of industries in the economy of the State, region, Tribal community, or local area;

(d) Progresses in specificity (beginning with all aspects of an industry or career cluster and leading to more occupation-specific instruction);

(e) Has multiple entry and exit points that incorporate credentialing; and

(f) Culminates in the attainment of a recognized postsecondary credential.

State means each of the 50 States, the District of Columbia, the Commonwealth of Puerto Rico, and each of the outlying areas.

State educational agency means the agency primarily responsible for the State supervision of public elementary schools and secondary schools.

Waiver of Proposed Rulemaking: Under the Administrative Procedure Act (5 U.S.C. 553), the Department generally offers interested parties the opportunity to comment on proposed priorities, definitions, requirements, and selection criteria. Section 437(d)(1) of GEPA, however, allows the Secretary to exempt from rulemaking requirements regulations governing the first grant competition under a new or substantially revised program authority. This is the first grant competition for this program under section 4202(a)(2) of the ESEA (20 U.S.C. 7172(a)(2)) and, therefore, the priorities, requirements, and definitions established in this notice qualify for this exemption. In order to ensure timely grant awards, the Secretary has decided to forgo public comment on the priorities, requirements, and definitions established in accordance with section 437(d)(1) of GEPA.

Program Authority: Title IV, Part B of the ESEA, Section 4202(a)(2), 20 U.S.C. 7172(a)(2).

Applicable Regulations: (a) The Education Department General Administrative Regulations in 34 CFR parts 75, 76, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Discretionary grants.

Estimated Available Funds: $1,500,000.00 each year for five years for a total investment of $7,500,000.00.

Contingent upon the availability of funds and the quality of applications, we may make additional awards in subsequent years from the list of unfunded applications from this competition.

Estimated Range of Awards: $375,000-$625,000 per year for five years.

Estimated Average Size of Awards: $500,000 per year for five years.

Estimated Number of Awards: 2-4.

Note: The Department is not bound by any estimates in this notice.

Project Period: Up to 60 months.

III. Eligibility Information

1. Eligible Applicants: SEAs in partnership (as described in this notice) with, at a minimum, an existing 21st CCLC subgrantee and an employer in an in-demand industry sector or occupation, as determined by the State. An SEA may submit more than one application; each application must propose to build or expand one project only, though one project may serve multiple sites.

Note: For purposes of this program, the Bureau of Indian Education (BIE) is considered to be an SEA, and the outlying areas (American Samoa, the Commonwealth of Northern Mariana Islands, Guam, and the Virgin Islands) are eligible only to the extent that they are using funds from the Consolidated Grants to Insular Areas to implement a 21st CCLC program under Title IV, Part B of the ESEA and have current 21st CCLC subgrantees.

2. a. Cost Sharing or Matching: This competition does not require cost sharing or matching.

b. Supplement-Not-Supplant: This program involves supplement-not-supplant funding requirements.

3. Subgrantees: Under 34 CFR 75.708(b) and (c), an SEA grantee under this competition may award subgrants—to directly carry out project activities described in its application—to eligible entities (as defined in section 4201(b)(3) of the ESEA): LEAs, community-based organizations, Indian Tribes or Tribal organizations (as such terms are defined in section 4 of the Indian Self-Determination and Education Act (25 U.S.C. 450b)), other public or private entities, or consortia of two or more such agencies, organizations, or entities. The SEA grantee may award subgrants to eligible entities it has identified in an approved application.

4. Equitable Services: A grantee under this program is required to provide for the equitable participation of private school children, in accordance with section 8501 of the ESEA (20 U.S.C. 7881).

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

Grants.gov has relaxed the requirement for applicants to have an active registration in the System for Award Management (SAM) in order to apply for funding during the COVID-19 pandemic. An applicant that does not have an active SAM registration can still register with Grants.gov, but must contact the Grants.gov Support Desk, toll-free, at 1-800-518-4726, in order to take advantage of this flexibility.

2. Submission of Proprietary Information: Given the types of projects that may be proposed in applications for the Out-of-School Time Career Pathway program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Notice of Intent to Apply: The Department will be able to review grant applications more efficiently if we know the approximate number of applicants that intend to apply. Therefore, we strongly encourage each potential applicant to notify us of its intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210 and are as follows:

(a) Significance. (Up to 15 points).

(1) The Secretary considers the significance of the proposed project.

(2) In determining the significance of the proposed project, the Secretary considers the following factors:

(i) The extent to which the proposed project is likely to yield findings that may be utilized by other appropriate agencies and organizations. (3 points).

(ii) The extent to which the proposed project is likely to build local capacity to provide, improve, or expand services that address the needs of the target population. (5 points).

(iii) The extent to which the proposed project involves the development or demonstration of promising new strategies that build on, or are alternatives to, existing strategies. (3 points).

(iv) The extent to which the results of the proposed project are to be disseminated in ways that will enable others to use the information or strategies. (4 points).

(b) Quality of the project design. (Up to 20 points).

(1) The Secretary considers the quality of the design of the proposed project.

(2) In determining the quality of the design of the proposed project, the Secretary considers the following factors:

(i) The extent to which the goals, objectives, and outcomes to be achieved by the proposed project are clearly specified and measurable. (5 points).

(ii) The extent to which the design of the proposed project is appropriate to, and will successfully address, the needs of the target population or other identified needs. (5 points).

(iii) The extent to which there is a conceptual framework underlying the proposed research or demonstration activities and the quality of that framework. (5 points).

(iv) The extent to which the proposed project will integrate with or build on similar or related efforts to improve relevant outcomes (as defined in 34 CFR 77.1(c)), using existing funding streams from other programs or policies supported by community, State, and Federal resources. (5 points).

(c) Quality of project services. (Up to 30 points).

(1) The Secretary considers the quality of the services to be provided by the proposed project.

(2) In determining the quality of the services to be provided by the proposed project, the Secretary considers the following factors:

(i) The quality and sufficiency of strategies for ensuring equal access and treatment for eligible project participants who are members of groups that have traditionally been underrepresented based on race, color, national origin, gender, age, or disability. (5 points).

(ii) The extent to which the services to be provided by the proposed project reflect up-to-date knowledge from research and effective practice. (10 points).

(iii) The likely impact of the services to be provided by the proposed project on the intended recipients of those services. (15 points).

(d) Adequacy of resources. (Up to 21 points).

(1) The Secretary considers the adequacy of resources for the proposed project.

(2) In determining the adequacy of resources for the proposed project, the Secretary considers the following factors:

(i) The adequacy of support, including facilities, equipment, supplies, and other resources, from the applicant organization or the lead applicant organization. (7 points).

(ii) The extent to which the costs are reasonable in relation to the objectives, design, and potential significance of the proposed project. (7 points).

(iii) The potential for continued support of the project after Federal funding ends, including, as appropriate, the demonstrated commitment of appropriate entities to such support. (7 points).

(e) Quality of the management plan. (Up to 14 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks. (7 points).

(ii) How the applicant will ensure that a diversity of perspectives are brought to bear in the operation of the proposed project, including those of parents, teachers, the business community, a variety of disciplinary and professional fields, recipients or beneficiaries of services, or others, as appropriate. (7 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit annual performance reports that provide the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: The Department has established the following Government Performance and Results Act of 1993 performance measures for the Out-of-School Time Career Pathway program:

(a) The cumulative, unduplicated number of students participating in a program supported by this grant.

(b) The cumulative number of program participants who receive an industry-recognized credential, and the cumulative number of credentials received, as a result of a program supported by this grant.

(c) The cumulative number of program participants who complete an internship as a result of a program supported by this grant.

(d) The cumulative number of program participants who complete an apprenticeship as a result of a program supported by this grant.

(e) The cumulative percentage of program participants that received a credential or completed an internship or apprenticeship.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-13304 Filed 6-19-20; 8:45 am]

BILLING CODE 4000-01-P